DEPARTMENT OF AGRICULTURE

Rural Business-Cooperative Service

Rural Housing Service

Rural Utilities Service

Farm Service Agency

7 CFR Part 1980

RIN 0575-AA94

Strategic Economic and Community Development

AGENCY: Rural Business-Cooperative Service, Rural Housing Service, Rural Utilities Service, Farm Service Agency, U.S. Department of Agriculture (USDA).

ACTION: Interim rule; delay of effective date.

SUMMARY: On May 20, 2015, USDA published an interim rule establishing a priority for projects that support the implementation of strategic economic and community development plans across multi-jurisdictional areas. This priority applies to several specific programs with the Rural Business-Cooperative Service, the Rural Housing Service, and the Rural Utilities Service. The effective date was listed as June 19, 2015 and is being delayed to July 17, 2015.

DATES: Effective date: The effective date of the interim rule published May 20, 2015 (80 FR 28807) is delayed from June 19, 2015, to July 17, 2015.

FOR FURTHER INFORMATION CONTACT: Farah Ahmad, Rural Business-Cooperative Service, U.S. Department of Agriculture, Stop 3254, 1400 Independence Avenue SW., Washington, DC 20250-0783, Telephone: 202-245-1169. Email: Farah.Ahmad@wdc.usda.gov.

SUPPLEMENTARY INFORMATION: The interim rule published in the May 20, 2015, Federal Register implements Section 6025 of the Agricultural Act of 2014. The Congressional Review Act (5 U.S.C. 801 et seq.) requires that Congress be afforded at least 60 days to review rules before they become effective. The May 20, 2015 interim rule only provided a 30 day period before the rule would become effective. Therefore, to comply with the Congressional Review Act, the effective date for the interim rule is being extended an additional 30 days to July 17, 2015.

Dated: June 15, 2015.
Lisa Mensah,
Under Secretary, Rural Development.

Dated: June 15, 2015.
Michael Scuse,
Under Secretary, Farm and Foreign Agricultural Services.

[FR Doc. 2015-15048 Filed 6-17-15; 8:45 am]

BILLING CODE 3410-XY-P